DEPARTMENT OF TRANSPORTATION

Federal Aviation Administration

14 CFR Part 39

[Docket No. 2001-NM-54-AD; Amendment 39-13845; AD 2004-22-17]

RIN 2120-AA64

Airworthiness Directives; McDonnell Douglas Model MD-11 and -11F Airplanes

AGENCY: Federal Aviation Administration, DOT.

ACTION: Final rule.

SUMMARY: This amendment adopts a new airworthiness directive (AD), applicable to certain McDonnell Douglas Model MD-11 and MD-11F airplanes, that requires an inspection of the connector cables for signs of arcing and/or signs of moisture penetration into the overhead decoder units (ODU), and replacement of the affected ODU(s) with a new ODU, if necessary. This action also requires modification and reidentification of the cable assemblies and the connect cable assemblies at shipside power to the ODU, ODU to ODU, and adjacent bag racks; and replacing certain connectors of the ODU and shipside power cable assemblies. The actions specified by this AD are intended to prevent moisture from entering through the rear of the connector of the ODUs located in the overhead baggage stowage racks, which could result in a short, damage to the connector pins, and consequent smoke and/or fire in the cabin. This action is intended to address the identified unsafe condition.

DATES: Effective December 14, 2004.

The incorporation by reference of certain publications listed in the regulations is approved by the Director of the Federal Register as of December 14, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) to include an airworthiness directive (AD) that is applicable to certain McDonnell Douglas Model MD-11 and MD-11F airplanes was published as a supplemental notice of proposed rulemaking (NPRM) in the Federal Register on July 13, 2004 (69 FR 41987). That action proposed to require an inspection of the connector cables for signs of arcing and/or signs of moisture penetration into the overhead decoder units (ODU), and replacement of the affected ODU(s) with a new ODU, if necessary. That action also proposed to require modification and reidentification of the cable assemblies and the connect cable assemblies at shipside power to the ODU, ODU to ODU, and adjacent bag racks; and replacing certain connectors of the ODU and shipside power cable assemblies.

Comments

Interested persons have been afforded an opportunity to participate in the making of this amendment. No comments were submitted in response to the proposal or the FAA's determination of the cost to the public.

Conclusion

The FAA has determined that air safety and the public interest require the adoption of the rule as proposed.

Cost Impact

There are approximately 114 airplanes of the affected design in the worldwide fleet. The FAA estimates that 28 airplanes of U.S. registry will be affected by this AD, that it will take approximately between 295 and 2,056 work hours per airplane (i.e., 2 work hours per ODU and shipside connector; the number of ODUs and shipside connectors per airplane will vary between 59 and 1,028 depending on the airplane's configuration) to accomplish the required actions, and that the average labor rate is $65 per work hour. Required parts will cost approximately between $2,264 and $130,864 per airplane (depending on the airplane configuration). Based on these figures, the cost impact of the AD on U.S. operators is estimated to be between $21,439 and $264,504 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. As a result, the costs attributable to the proposed AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-17 McDonnell Douglas: Amendment 39-13845. Docket 2001-NM-54-AD.

Applicability: Model MD-11 and -11F airplanes, as listed in Boeing Alert Service Bulletin MD11-33A065, Revision 02, dated April 1, 2003; certificated in any category.

Compliance: Required as indicated, unless accomplished previously.

To prevent moisture from entering through the rear of the connector of the overhead decoder units (ODU) located in the overhead baggage stowage racks, which could result in a short, damage to the connector pins, and consequent smoke and/or fire in the cabin, accomplish the following:

Service Bulletin References

(a) The term “service bulletin,” as used in this AD, means Boeing Alert Service Bulletin MD11-33A065, Revision 02, dated April 1, 2003.

Part 1: Cable Assemblies of the ODU

(b) Within 18 months after the effective date of this AD, do the actions specified in paragraphs (b)(1) through (b)(4) of Table 1 of this AD, as applicable, and any applicable corrective actions by doing all actions in Part 1 of the Work Instructions of the service bulletin. Do the actions per the service bulletin. Do any applicable corrective actions before further flight.

Table 1.—Cable Assemblies of the ODUs
For Airplanes Identified in the Service Bulletin as— | Actions—
(1) Groups 1 through 69 | Do a general visual inspection of the P1 connector end of all AWP9604 cable assemblies of the ODUs to determine if SK2464-15 connectors are present.
(2) Groups 1 through 69 | Replace the connector ends on the applicable cable assemblies of the ODUs with new connector ends.
(3) Groups 1 through 72 | Do general visual inspection of the cable connectors for signs of arcing or signs of moisture penetration into the ODUs.
(4) Groups 70 through 72 | Replace the connectors of the applicable cable assemblies of the ODUs with new connectors.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Part 2: Shipside Cable Assemblies

(c) For Groups 1 through 69 identified in the service bulletin: Within 18 months after the effective date of this AD, do the actions specified in paragraphs (c)(1) through (c)(3) of this AD, and any applicable corrective action by doing all actions in paragraphs 1., and 3. through 10., as applicable, of Part 2 of the Work Instructions of the service bulletin. Do the actions per the service bulletin. Do any applicable corrective actions before further flight.

(1) Do a general visual inspection of the P1 connector end of the jumper cables of the centerline AWP9606 shipside cable assemblies to determine if SK2464-9 connectors are present.

(2) Replace the P1 connector ends on the applicable shipside cable assemblies with new connector ends.

(3) Replace the connectors of the applicable shipside cable assemblies with new connectors.

Differences Between AD and Referenced Service Bulletin

(d) Although the service bulletin referenced in this AD specifies to submit certain information to the manufacturer, this AD does not include that requirement.

(e) Although the service bulletin describes the procedure for a general visual inspection of the connector cables of the shipside cable assemblies for signs of arcing or signs of moisture penetration for certain airplanes, this AD does not require that inspection.

Note 2: Where there are differences between the AD and the service bulletin, the AD prevails.

Parts Installation

(f) As of the effective date of this AD, no person shall install a cable assembly having a part number in the “Existing Part Number” column of the applicable table specified in paragraph 2.C.3, “Parts Necessary for Each Airplanes” of the service bulletin, on any airplane.

Alternative Methods of Compliance (AMOC)

(g) In accordance with 14 CFR 39.19, the Manager, Los Angeles Aircraft Certification Office, FAA, is authorized to approve AMOCs for this AD.

Incorporation by Reference

(h) The action shall be done in accordance with Boeing Alert Service Bulletin MD11-33A065, excluding Appendix, Revision 02, dated April 1, 2003. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(i) This amendment becomes effective on December 14, 2004.

Issued in Renton, Washington, on October 25, 2004.
Ali Bahrami,
Manager, Transport Airplane Directorate, Aircraft Certification Service.

[FR Doc. 04-24620 Filed 11-8-04; 8:45 am]

BILLING CODE 4910-13-U